DEPARTMENT OF THE INTERIOR

Bureau of Reclamation

[14XR5173F7, RX120560500000004, RR02142500]

Notice of Intent To Prepare a Draft Environmental Impact Statement/Environmental Impact Report and Notice of Scoping Meeting for the Proposed North Valley Regional Recycled Water Program

AGENCY: Bureau of Reclamation, Interior.

ACTION: Notice.

SUMMARY: The Department of the Interior, through the Bureau of Reclamation, and the Del Puerto Water District, propose to prepare a draft Environmental Impact Statement/Environmental Impact Report (EIS/EIR) for the North Valley Regional Recycled Water Program. The North Valley Regional Recycled Water Program would provide recycled water from the Cities of Turlock and Modesto via the Central Valley Project's Delta-Mendota Canal to the Del Puerto Water District for irrigation purposes, and could further provide annual Incremental Level 4 water to south of the Sacramento-San Joaquin River Delta Central Valley Project Improvement Act designated wildlife refuges for wetlands.

DATES: Submit written comments on the scope of the draft EIS/EIR by May 28, 2014.

A public scoping meeting will be held on May 13, 2014, 3:00-7:00 p.m., in Modesto, California.

ADDRESSES: Written comments on the scope of the draft EIS/EIR should be sent to Mr. Benjamin Lawrence, Bureau of Reclamation, 1243 N Street, SCC-412, Fresno, California 93721, or via email to blawrence@usbr.gov.

The public scoping meeting will be held at the Modesto City Hall, 1010 10th Street, Modesto, CA 95354.

FOR FURTHER INFORMATION CONTACT: Mr. Benjamin Lawrence, Natural Resources Specialist, Bureau of Reclamation at the above address, via email at blawrence@usbr.gov, or at 559-487-5039. Information about the project is also available on the project Web site: http://www.nvr-recycledwater.org/.

SUPPLEMENTARY INFORMATION: The Del Puerto Water District (DPWD) and the Cities of Turlock and Modesto (Cities) (Partner Agencies) propose to implement a regional solution to address water supply shortages within DPWD's service area on the west side of the San Joaquin River in San Joaquin, Stanislaus and Merced Counties, south of the Sacramento-San Joaquin River Delta (Delta). Specifically, the project proposes to deliver 59,000 acre feet per year of recycled water produced by the Cities via the Delta-Mendota Canal. Recycled water would be conveyed from Modesto and Turlock through pipelines from their wastewater treatment facilities, crossing the San Joaquin River, and ending at the Delta-Mendota Canal. The recycled water would then be conveyed directly to DPWD customers or to San Luis Reservoir for storage during low water demand periods. In addition to uses within DPWD's service area, this project also proposes to provide water to Central Valley Project Improvement Act (CVPIA)-designated Refuges located south of the Delta to meet their need for water supply. This draft EIS/EIR assesses the environmental effects of the North Valley Regional Recycled Water Program (or Proposed Action).

The objective of the Proposed Action is to maximize use of a sustainable, alternative water supply for the region that addresses reductions in water supplies from the Central Valley Project (CVP) and offsets pressure on groundwater use. Specifically, the objectives of the project are as follows:

• Establish an alternative, reliable, long-term water supply of 59,000 acre feet per year of recycled water for DPWD;

• Maximize the beneficial use of recycled water to DPWD customers and south of Delta CVPIA wildlife refuges;

• Maximize Project Partners' control of operations and delivery of water;

• Maximize use of existing facilities for treatment/delivery of recycled water;

• Acquire a long-term reliable Incremental Level 4 water supply, as defined in CVPIA Section 3406(d)(2), for south of Delta CVPIA wildlife refuges;

• Avoid or minimize, through incorporation of design constraints and management practices, impacts to environmental resources such as surface water, groundwater levels, land subsidence, groundwater quality and biological resources including sensitive species;

• Deliver agricultural water to DPWD at a cost that supports regional economic sustainability.

Purpose and Need

One of the authorized purposes of CVP is to provide water for irrigation and domestic use within California's Central Valley. In recent years, south of the Delta CVP contractors and CVPIA wildlife refuges have experienced a reduction in CVP water allocations from historical amounts due to drought conditions and Delta pumping restrictions. As a CVP contractor, DPWD has a need to establish alternative, reliable long-term agricultural water supplies to offset this reduction in supply. Also CVPIA Section 3406(d)(2) directs the Bureau of Reclamation to acquire and provide Incremental Level 4 water to all CVPIA designated wildlife refuges in the Central Valley. The purpose of making the Cities' recycled water available to DPWD is to provide an additional source of water south of the Delta, which can be used to meet both agricultural and Refuge wildlife needs.

Environmental Issues and Resources To Be Examined

The draft EIS/EIR will include analysis and disclosure of the effects on the quality of the human and physical environment that may occur as a result of implementation of the project. Issues to be addressed may include, but are not limited to, impacts on biological resources, hydrology, water quality, historic and archaeological resources, air quality, noise, traffic, safety, hazardous materials and waste, visual resources, socioeconomics, and environmental justice.

Special Assistance for Public Meetings

If special assistance is required to participate in the scoping meeting, please contact Mr. Benjamin Lawrence at 559-487-5039, or via email at blawrence@usbr.gov. A telephone device for the hearing impaired (TTY) is available at 800-735-2929.

Public Disclosure

Before including your address, phone number, email address, or other personal identifying information in your comment, you should be aware that your entire comment—including your personal identifying information—may be made publicly available at any time. While you can ask us in your comment to withhold your personal identifying information from public review, we cannot guarantee that we will be able to do so.

Dated: March 11, 2014.
Anastasia T. Leigh,
Regional Environmental Officer, Mid-Pacific Region.

[FR Doc. 2014-09085 Filed 4-21-14; 8:45 am]

BILLING CODE 4310-MN-P